ENVIRONMENTAL PROTECTION AGENCY

40 CFR Part 81

[EPA-R09-OAR-2008-0306; FRL-9284-3]

Approval and Promulgation of Implementation Plans; Designation of Areas for Air Quality Planning Purposes; State of California; PM-10; Technical Amendment

AGENCY: Environmental Protection Agency (EPA).

ACTION: Final rule; technical amendment.

SUMMARY: EPA is making a technical amendment to the Code of Federal Regulations to reflect the final actions published by the Agency on November 12, 2008 in connection with the designations of the San Joaquin Valley Air Basin and East Kern areas for particulate matter of ten microns or less (PM-10).

DATES: This technical amendment is effective on March 21, 2011.

FOR FURTHER INFORMATION CONTACT: Doris Lo, EPA Region IX, (415) 972-3959, lo.doris@epa.gov.

SUPPLEMENTARY INFORMATION: On November 12, 2008, among other actions, EPA approved the State of California's request under the Clean Air Act (CAA or the Act) to revise the designation for the San Joaquin Valley serious nonattainment area for particulate matter of ten microns or less (PM-10) by splitting the area into two separate nonattainment areas: The San Joaquin Valley Air Basin (SJVAB) serious nonattainment area and the East Kern serious nonattainment area. See 73 FR 66759 (November 12, 2008). In the November 12, 2008 final rule, EPA also redesignated the SJVAB to attainment for the PM-10 national ambient air quality standard (NAAQS).

In relevant part, the amendatory language on page 66773 of the November 12, 2008 final rule states: “In § 81.305 the “California—PM-10” table is amended under Fresno, Kern, Kings, Madera, Merced, San Joaquin, Stanislaus, Tulare Counties by revising the entry for the “San Joaquin Valley planning area” to read as follows.” Following this amendatory language, in the PM-10 table itself, the final rule retains the entry for the Indian Wells Valley planning area (which was unaffected by EPA's November 12, 2008 final rule) by use of asterisks and identifies the two areas, East Kern and San Joaquin Valley Air Basin, and their respective designations and classifications for the PM-10 NAAQS consistent with the final Agency actions published in the November 12, 2008 final rule, that EPA intended as a replacement for the then-existing entry for the “San Joaquin Valley planning area.”

With one exception, the descriptions of the areas and their designations and classifications are correct as set forth in the final rule; however, the amendatory language introducing the change to part 81 and referring to a revision of the entry for the “San Joaquin Valley planning area” was unclear to the Office of the Federal Register, and as a result, the electronic version of the CFR (“e-CFR”) and hard-copy publication of “Parts 81 and 84” of title 40 in years 2009 and 2010 do not identify East Kern as a PM-10 nonttainment area.¹ EPA is today issuing a technical amendment to reconcile the CFR with the Agency's November 12, 2008 final rule, and to do so, EPA is adding East Kern as a PM-10 area under the entry “Fresno, Kern, Kings, Madera, Merced, San Joaquin, Stanislaus, Tulare Counties” in the “California—PM-10” table in 40 CFR 81.305. Today's technical amendment makes no changes to the substance of the November 12, 2008 final rule.

¹ The one exception is the entry of “11/15/90” as the date for East Kern's classification as a “serious” PM-10 nonattainment area. 73 FR 66759, at 66774 (November 12, 2008). The correct date is “02/08/93.” See 58 FR 3334 (January 8, 1993). Today's technical amendment includes the correct date for East Kern's classification as a “serious” PM-10 nonattainment.

List of Subjects in 40 CFR Part 81

Environmental protection, Air pollution control, National parks, Wilderness areas.

Dated: March 11, 2011.
Jared Blumenfeld,
Regional Administrator, Region IX.

Part 81, Chapter I, Title 40 of the Code of Federal Regulations is amended as follows:

PART 81—[AMENDED]

1. The authority citation for part 81 continues to read as follows:

Authority: 42 U.S.C. 7401 et seq.

2. Section 81.305 of the “California-PM-10” table is amended under Fresno, Kern, Kings, Madera, Merced, San Joaquin, Stanislaus, Tulare Counties by revising the entries for “Indian Wells Valley planning” and “San Joaquin Valley Air Basin” and by adding “East Kern” to read as follows:

§ 81.305 California.

* * * * *

California—PM-10
Designated Area | Designation: Date | Designation: Type | Classification: Date | Classification: Type
* * * * * * *
Fresno, Kern, Kings, Madera, Merced, San Joaquin, Stanislaus, Tulare Counties:
Indian Wells Valley planning area: That portion of Kern County contained within Hydrologic Unit #18090205 | 6/6/03 | Attainment
San Joaquin Valley Air Basin; Fresno County, Kings County, Madera County, Merced County, San Joaquin County, Stanislaus County, Tulare County, and that portion of Kern County which lies west and north of a line described as follows: Beginning at the Kern-Los Angeles County boundary and running north and east along the northwest boundary of the Rancho La Libre Land Grant to the point of intersection with the range line common to R. 16 W. and R. 17 W., San Bernardino Base and Meridian; north along the range line to the point of intersection with the Rancho El Tejon Land Grant boundary; then southeast, northeast, and northwest along the boundary of the Rancho El Tejon Land Grant to the northwest corner of S. 3, T. 11 N., R. 17 W.; then west 1.2 miles; then north to the Rancho El Tejon Land Grant boundary; then northwest along the Rancho El Tejon line to the southeast corner of S. 34, T. 32 S., R. 30 E., Mount Diablo Base and Meridian; then north to the northwest corner of S. 35, T. 31 S., R. 30 E.; then northeast along the boundary of the Rancho El Tejon Land Grant to the southwest corner of S. 18, T. 31 S., R. 31 E.; then east to the southeast corner of S. 13, T. 31 S., R. 31 E.; then north along the range line common to R. 31 E. and R. 32 E., Mount Diablo Base and Meridian, to the northwest corner of S. 6, T. 29 S., R. 32 E.; then east to the southwest corner of S. 31, T. 28 S., R. 32 E.; then north along the range line common to R. 31 E. and R. 32 E. to the northwest corner of S. 6, T. 28 S., R. 32 E., then west to the southeast corner of S. 36, T. 27 S., R. 31 E., then north along the range line common to R. 31 E. and R. 32 E. to the Kern-Tulare County boundary | 12/12/08 | Attainment
East Kern: That portion of Kern County which lies between the following two lines (with the exception of that portion in Hydrologic Unit Number 18090205—the Indian Wells Valley): | 11/15/90 | Nonattainment | 02/08/93 | Serious.
(1) West and north of a line described as follows: Beginning at the southwest corner of section 31, T. 10 N 16 W and running east to the northwest boundary of the Rancho La Liebre Land Grant; then running north and east along the northwest boundary of the Rancho La Liebre Land Grant to the point of intersection with the range line common to R. 15 W. and R. 16 W., San Bernardino Base and Meridian; then north along the range line to the northwest corner of section 2, T. 32 S., R. 32 E., Mount Diablo Base and Meridian; then east along the township line common to T. 32 S. and T. 31 S.; then north along the range line common to R. 35 E. and R. 34 E.; then east along the township line common to T. 29 S. and T. 28 S.; then north along the range line common to R. 36 E. and R. 35 E.; then east along the township line common to T. 28 S. and T. 27 S.; then north along the range line common to R. 37 E. and R. 36 E. to the Kern-Tulare County boundary
(2) East and south of a line of a line described as follows: Beginning at the southwest corner of section 31, T. 10 N 16 W and running north along the range line common to R. 16 W. and R. 17 W., San Bernardino Base and Meridian; north along the range line to the point of intersection with the Rancho El Tejon Land Grant boundary; then southeast, northeast, and northwest along the boundary of the Rancho El Tejon Land Grant to the northwest corner of S. 3, T. 11 N., R. 17 W.; then west 1.2 miles; then north to the Rancho El Tejon Land Grant boundary; then northwest along the Rancho El Tejon line to the southeast corner of S. 34, T. 32 S., R. 30 E., Mount Diablo Base and Meridian; then north to the northwest corner of S. 35, T. 31 S., R. 30 E.; then northeast along the boundary of the Rancho El Tejon Land Grant to the southwest corner of S. 18, T. 31 S., R. 31 E.; then east to the southeast corner of S. 13, T. 31 S., R. 31 E.; then north along the range line common to R. 31 E. and R. 32 E., Mount Diablo Base and Meridian, to the northwest corner of S. 6, T. 29 S., R. 32 E.; then east to the southwest corner of S. 31, T. 28 S., R. 32 E.; then north along the range line common to R. 31 E. and R. 32 E. to the northwest corner of S. 6, T. 28 S., R. 32 E., then west to the southeast corner of S. 36, T. 27 S., R. 31 E., then north along the range line common to R. 31 E. and R. 32 E. to the Kern-Tulare County boundary
* * * * * * *

[FR Doc. 2011-6559 Filed 3-18-11; 8:45 am]

BILLING CODE 6560-50-P